DEPARTMENT OF THE INTERIOR

Bureau of Land Management

[NV-910-0777XQ-241A]

Call for Nominations for Resource Advisory Council

AGENCY: Bureau of Land Management, Interior.

ACTION: Notice of Resource Advisory Council call for nominations.

SUMMARY: The purpose of this notice is to solicit public nominations for a vacancy on the Bureau of Land Management (BLM) Northeastern Great Basin Resource Advisory Council (RAC). The RAC provides advice and recommendations to the BLM on land use planning and management of the public lands within the geographic area, which includes southern Nevada. Public nominations will be accepted for 45 days after the publication date of this notice.

The Federal Land Policy and Management Act (FLPMA) directs the Secretary of the Interior to involve the public in planning and issues related to management of lands administered by BLM. Section 309 of FLPMA directs the Secretary to select 10 to 15 member citizen-based advisory councils that are established and authorized consistent with the requirements of the Federal Advisory Committee Act (FACA). As required by the FACA, the interests represented by the individuals appointed to the RAC must be balanced and representative of the various issues concerned with the management of the public lands. The current vacancy is within Category One (of three), which includes:

Representatives of energy and mineral development, holders of federal grazing permits and timber industry, transportation or rights-of-way, off-highway vehicle use, and commercial recreation. The vacancy which has occurred is the representative energy and mineral development.

Individuals may nominate themselves or others. Nominees must be residents of the State of Nevada, in which the RAC has jurisdiction. Nominees will be evaluated based on their education, training, experience, and their knowledge of the geographical area of the RAC. Nominees should have demonstrated a commitment to collaborative resource decision making. All nominations must be accompanied by letters of reference from represented interests or organizations, a completed background information nomination form, as well as any other information that speaks to the nominee's qualifications.

Simultaneous with this notice, the BLM Nevada State Office will issue a news release providing additional information for submitting nominations. Nominations for RAC membership should be sent to the BLM office as follows: Susan Howle, BLM Ely Field Office, 702 North Industrial Way, HC 33 Box 33500, Ely, NV 89301-9408.

FOR FURTHER INFORMATION CONTACT: Robert Stewart, Public Affairs Specialist, BLM Nevada State Office, P.O. Box 12000, Reno, Nevada 89520-006 or telephone (775) 861-6586.

Dated: July 14, 2000.
Robert E. Stewart,
Acting Chief, Office of Communications.

[FR Doc. 00-19024 Filed 7-26-00; 8:45 am]

BILLING CODE 4310-HC-M